DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before December 12, 2001.

ADDRESS COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW., Washington, DC or at http://dms.dot.gov.

This notice of receipt of applications for modification of exemptions is published in accordance with part 107 of the Federal hazardous materials transportation law (49 U.S.C. 5117(b); 49 CFR 1.53(b)).

Issued in Washington, DC, on November 20, 2001.
J. Suzanne Hedgepeth,
Director, Office of Hazardous Materials, Exemptions and Approvals.

Application No. | Docket No. | Applicant | Modification of exemption
10440-M |  | MASS Systems (A Unit of Ameron Global, Inc.), Baldwin Park, CA (See Footnote 1) | 10440
11186-M |  | Chart Industries, Inc. (Storage Systems Div.), Denver, CO (See Footnote 2) | 11186
11993-M | RSPA-97-3100 | BREED Technologies, Inc., Lakeland, FL (See Footnote 3) | 11993
12196-M | RSPA-98-4939 | HR Textron, Pacoima, CA (See Footnote 4) | 12196
¹ To modify the exemption to authorize an alternative maintenance/inspection program for welded austenitic stainless steel non-DOT specification cylinders, conforming with DOT Specification 4DS, for the transportation of Division 2.2 materials.
² To modify the exemption to authorize the addition of new vessel assemblies for the non-DOT specification vacuum insulated portable tanks, comparable to DOT Specification MC 338 cargo tank motor vehicle, for the transportation of Division 2.2 materials.
³ To modify the exemption to authorize a new design style of the non-DOT specification cylinders used as components of automobile vehicle safety systems for the transportation of Division 2.1 and 2.2 materials.
⁴ To modify the exemption to authorize the hydrostatic retest period from 5 to 18 years for non-DOT specification stainless steel alloy cylinders used for the transportation of Division 2.2 materials.

[FR Doc. 01-29477 Filed 11-26-01; 8:45 am]

BILLING CODE 4910-60-M